DEPARTMENT OF TRANSPORTATION

Pipeline and Hazardous Materials Safety Administration

[Docket No. PHMSA-2026-0464]

Pipeline Safety: Request for Special Permit; Sable Offshore Corp. (Sable)

AGENCY: Pipeline and Hazardous Materials Safety Administration (PHMSA); U.S. Department of Transportation (DOT).

ACTION: Notice.

SUMMARY: PHMSA is publishing this notice to solicit public comments on a request for a special permit submitted by Sable Offshore Corp. (Sable). Sable is seeking relief from compliance with certain requirements in the Federal pipeline safety regulations. PHMSA has proposed conditions to ensure that the special permit is not inconsistent with pipeline safety. At the conclusion of the 30-day comment period, PHMSA will review the comments received from this notice as part of its evaluation to grant or deny the special permit request.

DATES: Submit any comments regarding this special permit request by March 26, 2026

ADDRESSES: Comments should reference the docket number for this special permit request and may be submitted in the following ways:

• E-Gov Website: http://www.regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.regulations.gov.

Note: There is a privacy statement published on http://www.regulations.gov. Comments, including any personal information provided, are posted without changes or edits to http://www.regulations.gov.

Confidential Business Information: Confidential business information (CBI) is commercial or financial information that is both customarily and treated as private by its owner. Under the Freedom of Information Act (FOIA) (5 U.S.C. § 552), CBI is exempt from public disclosure. If your comments responsive to this notice contain commercial or financial information that is customarily treated as private, that you treat as private, and that is relevant or responsive to this notice, it is important that you clearly designate the submitted comments as CBI. Pursuant to 49 Code of Federal Regulations (CFR) § 190.343, you may ask PHMSA to give confidential treatment to information you give to the agency by taking the following steps: (1) mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Lee Cooper, DOT, PHMSA-PHP-80, 1200 New Jersey Avenue SE, Washington, DC 20590-0001. Any commentary PHMSA receives that is not specifically designated as CBI will be placed in the public docket for this matter.

FOR FURTHER INFORMATION CONTACT:

General: Mr. Lee Cooper by telephone at 202-913-3171, or by email at lee.cooper@dot.gov.

Technical: Ms. Gabrielle St. Pierre by telephone at 907-202-0029, or by email at gabrielle.st.pierre@dot.gov.

SUPPLEMENTARY INFORMATION: On January 22, 2026, PHMSA received a special permit application from Sable requesting a waiver of the requirement in 49 CFR 195.452(h)(4)(iii)(H) to remediate certain longitudinal seam weld corrosion on hazardous liquid pipelines within 180 days of discovery. The waiver would apply to two segments of the Santa Ynez Pipeline System, an interstate hazardous liquid pipeline facility that transports crude oil produced on the Outer Continental Shelf through an onshore processing facility located in Santa Barbara County, California, to a terminal located in Kern County, California. The two segments that would be subject to the waiver are known as Lines CA-324 and CA-325 (including CA-325A and CA-325B).

Sable filed this application for a special permit to implement the terms of a Consent Decree entered in Civil Action No. 2:20-CV-02415 by the U.S. District Court for the Central District of California following a rupture that occurred on the Santa Ynez Pipeline System in May 2015. Lines CA-324 and CA-325 have not been used to transport hazardous liquid since the rupture, and the Consent Decree required the prior operator of the pipeline to obtain a waiver before restarting Lines CA-324 and CA-325 to make sure that effective measures were in place to mitigate the risk of corrosion.

Sable, which acquired Lines CA-324 and CA-325 after the entry of the Consent Decree, previously obtained a waiver of the regulation at issue in this proceeding from the California Office of the State Fire Marshall. PHMSA also granted a waiver of that regulation in an emergency special permit that it issued to Sable on December 23, 2025. Sable has agreed to continue following the terms and conditions in the emergency special permit until PHMSA issues a decision on the pending application.

PHMSA has reviewed the draft conditions and preliminarily determined that the issuance of the special permit would not be inconsistent with pipeline safety. The requested pipeline segments are as follows:

Line name | County, state | Outside diameter (inches) | Length (miles) | Year installed
CA-324 | Santa Barbara, CA | 24 | 10.86 | 1990
CA-325A | Santa Barbara, CA | 30 | 38.72 | 1986
CA-325B | Santa Barbara, San Luis Obispo, and Kern, CA | 30 | 74.84 | 1986

The special permit application including attachments, draft proposed special permit with conditions, and draft environmental assessment (DEA) for the above-described Sable pipeline segments are available for review and public comment in Docket No. PHMSA-2026-0464. PHMSA invites interested persons to review and submit comments in the docket on the special permit request, draft proposed special permit, and DEA. Please submit comments on any potential safety, environmental, and other relevant considerations implicated by the special permit request. Comments may include relevant data.

Before issuing a decision on the special permit request, PHMSA will evaluate all comments received on or before the comment closing date. PHMSA will consider each relevant comment it receives in making its decision to grant or deny this special permit request.

Issued in Washington, DC, under authority delegated in 49 CFR 1.97.
Linda Daugherty,
Acting Associate Administrator for Pipeline Safety.

[FR Doc. 2026-03686 Filed 2-23-26; 8:45 am]

BILLING CODE 4910-60-P